DEPARTMENT OF COMMERCE

National Oceanic and Atmospheric Administration

RIN 0648-XE548

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ).

DATES: The meeting will be held on Tuesday, Wednesday and Thursday, April 19, 20, and 21, 2016. It will start at 9 a.m. on April 19, and at 8:30 a.m. on both April 20 and 21.

ADDRESSES: The meeting will be held at the Mystic Hilton Hotel, 20 Coogan Boulevard, Mystic, CT 06355; telephone: (860) 572-0731, or online at http://hiltonmystic.com/.

Council address: New England Fishery Management Council, 50 Water Street, Mill 2, Newburyport, MA 01950; telephone: (978) 465-0492.

FOR FURTHER INFORMATION CONTACT: Thomas A. Nies, Executive Director, New England Fishery Management Council; telephone: (978) 465-0492, ext. 113.

SUPPLEMENTARY INFORMATION:

Agenda

Tuesday, April 19, 2016

After introductions and any announcements, the Council meeting will open with brief reports from the NEFMC Chairman and Executive Director, the NOAA Regional Administrator for the Greater Atlantic Region (GAR), Northeast Fisheries Science Center and Mid-Atlantic Fishery Management Council liaisons, NOAA General Counsel and Office of Law Enforcement representatives, and staff from the Atlantic States Marine Fisheries Commission and the U.S Coast Guard. Following these reports, the Council will receive two others from representatives of the Northeast Fisheries Science Center; the first is on the status of the Northeast continental shelf ecosystem; and a second will cover scientific efforts to assess the vulnerability of fish stocks to climate change. Next, the NEFMC's Ecosystem-Based Fisheries Management Committee will provide an update on its progress to develop a working example of a fisheries ecosystem plan. After a lunch break, the Council will discuss and prepare comments on NOAA Fisheries draft National Bycatch Strategy and the agency's proposed draft Standardized Bycatch Reporting Methodology.

Wednesday, April 20, 2016

The second day of the meeting will begin with an overview of progress to develop Amendment 22 to the Northeast Multispecies Fishery Management Plan. The Council is considering a limited access program for the whiting/hake fishery via this action. A public comment period is then scheduled during which any member of the public may bring issues forward that relate to Council business but are not included on the published agenda for this meeting. During this morning session, the Atlantic Herring Committee will provide a briefing on progress on Amendment 8 to the Herring FMP, an action that would address: (1) Localized depletion; and (2) long-term harvest strategies for Atlantic herring, including an acceptable biological catch (ABC) control rule that explicitly accounts for herring's role in the ecosystem. The Committee report will also include discussion of plans for a workshop on a management strategy evaluation of the herring ABC control rule and a request that the Council initiate a framework adjustment to revise the Georges Bank haddock catch cap accountability measures. After a lunch break and during a discussion about NOAA's Omnibus Industry-Funded Monitoring Amendment, the Council also will, in cooperation with NOAA, discuss and refine existing alternatives and possibly select preferred alternatives for target levels of monitoring coverage in the Atlantic herring fishery. Approval of the associated draft Environmental Assessment will occur at the NEFMC's June Council meeting. Under the Sea Scallop Committee's agenda item, discussions are planned in which NEFMC members will review results of the Council‐sponsored workshop to address concerns about scallop fishing pressure in nearshore areas. They will also review a draft outline and work plan for the five-year performance review of the limited access general category IFQ program and hear information about increased fishing activity in the Northern Gulf of Maine management area. If warranted, the NEFMC may initiate an action at this meeting to address this last topic.

Thursday, April 21, 2016

The final meeting day will begin with a report from the Council's Habitat Committee Chair. After a review of work to date, the committee will ask for Council approval of the Omnibus Deep-Sea Coral Amendment management alternatives for the purpose of further development and analyses. A presentation is then scheduled on the draft Northeast Regional Ocean Plan. The next report will address plans for a peer review (fall 2016) of the in-season discard methodology to be used by NOAA Fisheries. The report will include a discussion of the terms of reference approved by the Northeast Regional Coordinating Committee. Following a mid-day lunch break, and under the auspices of the Groundfish Committee, there will be: a progress report on work to evaluate the groundfish monitoring program, and an update on other groundfish priorities for 2016, including windowpane flounder management measures and improving the process to develop recreational fishery management measures. The Council will adjourn after it addresses any other outstanding business during the afternoon of April 21st.

Although other non-emergency issues not contained in this agenda may come before this Council for discussion, those issues may not be the subject of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Thomas A. Nies (see ADDRESSES) at least 5 days prior to the meeting date.

Dated: March 29, 2016.
Tracey L. Thompson,
Acting Deputy Director, Office of Sustainable Fisheries, National Marine Fisheries Service.

[FR Doc. 2016-07557 Filed 4-1-16; 8:45 am]

BILLING CODE 3510-22-P